SOCIAL SECURITY ADMINISTRATION

[Docket No. SSA-2009-0001]

Occupational Information Development Advisory Panel Meeting

AGENCY: Social Security Administration (SSA).

ACTION: Notice of Upcoming Quarterly Panel Meeting.

DATES: April 27, 2009, 8:30 a.m.-5 p.m. (DST); April 28, 2009, 8:30 a.m.-5 p.m. (DST); April 29, 2009, 8:30 a.m.-3 p.m. (DST)

Location: Sheraton Atlanta Hotel.

ADDRESSES: 165 Courtland Street, NE., Atlanta, GA 30303.

SUPPLEMENTARY INFORMATION: Type of meeting: The meeting is open to the public.

Purpose: This discretionary Panel, established under the Federal Advisory Committee Act of 1972, as amended, shall report to the Commissioner of Social Security. The Panel will provide independent advice and recommendations on plans and activities to replace the Dictionary of Occupational Titles used in the Social Security Administration's (SSA) disability determination process. The Panel will advise the Agency on creating an occupational information system tailored specifically for SSA's disability programs and adjudicative needs. Advice and recommendations will relate to SSA's disability programs in the following areas: Medical and vocational analysis of disability claims; occupational analysis, including definitions, ratings and capture of physical and mental/cognitive demands of work and other occupational information critical to SSA disability programs; data collection; use of occupational information in SSA's disability programs; and any other area(s) that would enable SSA to develop an occupational information system suited to its disability programs and improve the medical-vocational adjudication policies and processes.

Agenda: The Panel will meet on Monday, April 27, 2009, from 8:30 a.m.until 5 p.m. (DST); Tuesday, April 28, 2009, from 8:30 a.m. until 5 p.m. (DST); and, Wednesday, April 29, 2009, from 8:30 a.m. until 3 p.m. (DST). The agenda will be available on the Internet at http://www.socialsecurity.gov/oidap/ one week prior to the meeting.

The tentative agenda for this meeting includes: Presentations on a variety of issues including SSA's policies, procedures and business practices as they relate to the use of the Dictionary of Occupational Titles in the disability programs; a summary of agency concerns about its occupational information needs; a walk-thru demonstration of two disability cases and analysis of those cases from several user perspectives; presentations from stakeholders (including, but not limited to, vocational experts and claimant representatives); deliberation and discussion; and subcommittee and administrative meetings.

The Panel will hear public comment during the April Quarterly Meeting on Tuesday, April 28, 2009 from 4 to 5 p.m. (DST). In order to comment, members of the public must schedule a time slot—assigned on a first come, first served basis. In the event public comment does not take the entire time allotted, the Panel may use any remaining time to deliberate or conduct other Panel business.

Those interested in providing testimony in person at the meeting or via teleconference should contact the Panel staff by e-mail at OIDAP@ssa.gov, or by calling Debra Tidwell-Peters on (410) 965-9617. Those interested are limited to a maximum five minute, verbal presentation. Organizational representatives will be allotted a maximum ten minute, verbal presentation.

Written testimony, no longer than five (5) pages, may be submitted for Panel consideration at any time either in person, by mail, fax or e-mail to OIDAP@ssa.gov. Seating is limited. People who need special accommodations in order to attend or participate in the meeting (e.g., sign language interpretation, assistive listening devices, or materials in alternative formats, such as large print or CD) should notify Debra Tidwell-Peters via e-mail to debra.tidwell-peters@ssa.gov, or by telephone at 410-965-9617, no later than April 13, 2009. SSA will attempt to meet requests made but cannot guarantee availability of services. All meeting locations are barrier free.

Contact Information: Records of all public Panel proceedings are maintained and available for inspection. Those requiring further information should contact the Panel staff at: Occupational Information Development Advisory Panel, Social Security Administration, 6401 Security Boulevard, 3-E-26 Operations, Baltimore, MD 21235-0001. Telephone: 410-965-9617. Fax: 202-410-597-0825. E-mail to OIDAP@ssa.gov. For additional information, please visit the Panel Web site at http://www.socialsecurity.gov/oidap.

Debra Tidwell-Peters,
Designated Federal Officer, Occupational Information Development Advisory Panel.

[FR Doc. E9-6614 Filed 3-24-09; 8:45 am]

BILLING CODE 4191-02-P